DEPARTMENT OF TRANSPORTATION

Federal Aviation Administration

14 CFR Part 39

[Docket No. FAA-2012-0913; Directorate Identifier 2012-NE-23-AD; Amendment 39-18261; AD 2015-18-03]

RIN 2120-AA64

Airworthiness Directives; Honeywell International Inc. Turboprop Engines (Type Certificate Previously Held by AlliedSignal Inc., Garrett Engine Division; Garrett Turbine Engine Company; and AiResearch Manufacturing Company of Arizona)

Correction

In rule document 2015-25606, appearing on pages 61091 through 61093 in the issue of Friday, October 9, 2015, make the following correction:

On page 61093, at the top of the page, the image heading “Figure 2 to Paragraph (e)—Airplane Operating Procedures” should read “Figure 1 to Paragraph (e)—Airplane Operating Procedures”.

[FR Doc. C1-2015-25606 Filed 10-22-15; 8:45 am]

BILLING CODE 1505-01-D